DEPARTMENT OF HOMELAND SECURITY

Coast Guard

33 CFR Part 117

Drawbridge Operations Regulations

CFR Correction

In Title 33 of the Code of Federal Regulations, Parts 1 to 124, revised as of July 1, 2017, on page 646, in § 117.739, paragraph (o) is removed and reserved.

[FR Doc. 2018-05245 Filed 3-13-18; 8:45 am]

BILLING CODE 1301-00-D